DEPARTMENT OF EDUCATION

National Assessment Governing Board

National Assessment Governing Board Meeting; Correction

AGENCY: National Assessment Governing Board, Department of Education.

ACTION: Notice; correction.

SUMMARY: The National Assessment Governing Board (Governing Board) published a document in the Federal Register on September 23, 2020, announcing the schedule and proposed agenda of a September 29, 2020 virtual meeting of the Governing Board. The September 29, 2020 meeting agenda is being revised.

FOR FURTHER INFORMATION CONTACT: Munira Mwalimu at (202) 357-6906.

Access to Records of the Meeting: Pursuant to FACA requirements, the public may also inspect the agenda and meeting materials at www.nagb.gov no later than Monday, September 28, 2020 by 10:00 a.m. ET. The official minutes of the open session of the meeting will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than noon on Friday, September 25, 2020. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

SUPPLEMENTARY INFORMATION:

Correction

In the Federal Register of September 23, 2020, in FR Doc. 2020-20267, on pages 60139-60140 (2 pages), correct the following:

1. The meeting times have changed; the meeting will now begin at 4:30 p.m. and adjourn at 7:00 p.m. ET instead of the announced time of 3:00 p.m. to 5:15 p.m. (ET).

2. The closed sessions of the meeting will now begin at 4:30 p.m. and adjourn at 6:15 p.m. instead of the posted times of 3:45 p.m. to 5:15 p.m. (ET).

3. The closed session topics are unchanged. The first closed session on the 2019 Nation's Report Card in Reading and Mathematics Grade 12 will begin at 4:30 p.m. and end at 5:15 p.m. The second closed session on Policy and Operational Updates for NAEP 2021 will begin at 5:15 p.m. and adjourn at 6:15 p.m.

4. Following a 15-minute break, the Governing Board will meet in open session at 6:30 p.m. to discuss and take action on the Strategic Vision.

5. The September 29, 2020 session of the Governing Board meeting will adjourn at 7:00 p.m.

Authority: Pub. L. 107-279, Title III—National Assessment of Educational Progress § 301.

Lesley A. Muldoon,
Executive Director, National Assessment Governing Board (NAGB), U. S. Department of Education.

[FR Doc. 2020-21515 Filed 9-28-20; 8:45 am]

BILLING CODE 4000-01-P